NUCLEAR REGULATORY COMMISSION

[Docket No. 50-346; NRC-2019-0028]

FirstEnergy Nuclear Operating Company; Davis-Besse Nuclear Power Station, Unit No. 1

AGENCY: Nuclear Regulatory Commission.

ACTION: License amendment application; withdrawal by applicant.

SUMMARY: The U.S. Nuclear Regulatory Commission (NRC) has granted the request of FirstEnergy Solutions Corp. (FES) to withdraw the FirstEnergy Nuclear Operating Company (FENOC, the licensee) application dated October 22, 2018, for a proposed amendment to Renewed Facility Operating License No. NPF-3. The proposed amendment would have made changes to the Davis-Besse Nuclear Power Station (DBNPS), Unit No. 1, technical specifications (TS) to permit certain changes in plant operations when the plant is permanently defueled.

DATES: The withdrawal of the proposed amendment takes effect on August 9, 2019.

ADDRESSES: Please refer to Docket ID NRC-2019-0028 when contacting the NRC about the availability of information regarding this document. You may obtain publicly-available information related to this document using any of the following methods:

• Federal Rulemaking Website: Go to https://www.regulations.gov/ and search for Docket ID NRC-2019-0028. Address questions about NRC docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Blake A. Purnell, Office of Nuclear Reactor Regulation, U.S. Nuclear Regulatory Commission, Washington DC 20555-0001; telephone: 301-415-1380, email: Blake.Purnell@nrc.gov.

SUPPLEMENTARY INFORMATION: The NRC has granted the request of FES to withdraw the FENOC application dated October 22, 2018 (ADAMS Accession No. ML18295A289), as supplemented by letter dated February 27, 2019 (ADAMS Accession No. ML19058A328), for a proposed amendment to Renewed Facility Operating License No. NPF-3 for the DBNPS located in Ottawa County, Ohio. FES is the parent company of FirstEnergy Nuclear Generation, LLC, which owns DBNPS. The proposed amendment would have changed the DBNPS TS to permit changes in plant operations when the plant is permanently defueled. Specifically, the licensee proposed to revise the TS to support the implementation of the certified fuel handler and non-certified operator positions. In addition, certain organization, staffing, and training requirements in the TS would have been revised. The proposed amendment would have also made other administrative changes.

The Commission previously issued a proposed finding that the amendment involves no significant hazards consideration published in the Federal Register on January 30, 2019 (84 FR 494). However, by letter dated July 26, 2019 (ADAMS Accession No. ML19207A097), FES requested to withdraw the proposed amendment.

Dated at Rockville, Maryland, this 6th day of August, 2019.
For the Nuclear Regulatory Commission.
Blake A. Purnell,
Project Manager, Plant Licensing Branch III, Division of Operating Reactor Licensing, Office of Nuclear Reactor Regulation.

[FR Doc. 2019-17067 Filed 8-8-19; 8:45 am]

BILLING CODE 7590-01-P